FEDERAL COMMUNICATIONS COMMISSION

47 CFR Part 73

[DA 03-1440, MB Docket No. 02-82, RM-10408]

Digital Television Broadcast Service; Burlington, VT

AGENCY: Federal Communications Commission (FCC).

ACTION: Final rule.

SUMMARY: The Commission, at the request of C-22 FCC Licensee Subsidiary, LLC, substitutes DTV channel 13 for DTV channel 16 at Burlington, Vermont. See 67 FR 20940, April 29, 2002. DTV channel13 can be allotted to Burlington in compliance with the principle community coverage requirements of Section 73.625(a) at reference coordinates 44-31-40 N. and 72-48-58 W. with a power of 4.5, HAAT of 835 meters and with a DTV service population of 514 thousand. Since the community of Burlington is located within 400 kilometers of the U.S.-Canadian border, concurrence from the Canadian government has been obtained for this allotment. With this action, this proceeding is terminated.

DATES: Effective June 23, 2003.

FOR FURTHER INFORMATION CONTACT: Pam Blumenthal, Media Bureau, (202) 418-1600.

SUPPLEMENTARY INFORMATION: This is a synopsis of the Commission's Report and Order, MB Docket No. 02-82, adopted April 28, 2003, and released May 8, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Vermont, is amended by removing DTV channel 16 and adding DTV channel 13 at Burlington.

Federal Communications Commission.
Barbara A. Kreisman,
Chief, Video Division, Media Bureau.

[FR Doc. 03-12203 Filed 5-15-03; 8:45 am]

BILLING CODE 6712-01-P